FEDERAL MARITIME COMMISSION

Ocean Transportation Intermediary License Revocations

The Commission gives notice that the following Ocean Transportation Intermediary licenses have been revoked pursuant to section 19 of the Shipping Act of 1984 (46 U.S.C. 40101) effective on the date shown.

License No.: 13355N.

Name: Oceanic Bridge International, Inc.

Address: 18725 East Gale Avenue, Suite 233, City of Industry, CA 91748.

Date Revoked: March 26, 2013.

Reason: Voluntary Surrender of License.

License No.: 022076NF.

Name: KT Logistics, Inc.

Address: 3470 W. 9th Street, Suite A, Upland, CA 91786.

Date Revoked: March 4, 2013.

Reason: Voluntary Surrender of License.

Vern W. Hill,
Director, Bureau of Certification and Licensing.

[FR Doc. 2013-08387 Filed 4-9-13; 8:45 am]

BILLING CODE 6730-01-P